DEPARTMENT OF TRANSPORTATION

Federal Aviation Administration

14 CFR Part 39

[Docket No. FAA-2008-1214; Directorate Identifier 2007-NM-259-AD; Amendment 39-15897; AD 2009-10-02]

RIN 2120-AA64

Airworthiness Directives; BAE Systems (Operations) Limited (Jetstream) Model 4101 Airplanes

AGENCY: Federal Aviation Administration (FAA), Department of Transportation (DOT).

ACTION: Final rule.

SUMMARY: The FAA is superseding an existing airworthiness directive (AD), which applies to all BAE Systems (Operations) Limited (Jetstream) Model 4101 airplanes. That AD currently requires operators to determine the number of flight cycles accumulated on each component of the main landing gear (MLG) and the nose landing gear (NLG), and to replace each component that reaches its life limit with a serviceable component. The existing AD also requires operators to revise the Airworthiness Limitations (AWL) section of the Instructions for Continued Airworthiness (ICA) in the aircraft maintenance manual to reflect the new life limits for structurally significant items. This new AD requires a new revision of the AWL section of the ICA to incorporate revised life limits for structurally significant items, operational and functional tests of certain systems, and instructions to retain critical ignition source prevention features during configuration changes. This AD results from mandatory continuing airworthiness information (MCAI) originated by an aviation authority of another country. We are issuing this AD to prevent failure of certain structurally significant items, including the MLG and the NLG, which could result in reduced structural integrity of the airplane; and to prevent fuel vapor ignition sources, which could result in fuel tank explosion and consequent loss of the airplane.

DATES: This AD becomes effective June 11, 2009.

The Director of the Federal Register approved the incorporation by reference of a certain publication listed in the AD as of June 11, 2009.

The Director of the Federal Register approved the incorporation by reference of certain other publications as of October 26, 2005 (70 FR 55230, September 21, 2005).

ADDRESSES: For service information identified in this AD, contact BAE Systems Regional Aircraft, 13850 McLearen Road, Herndon, Virginia 20171; telephone 703-736-1080; e-mail raebusiness@baesystems.com; Internet http://www.baesystems.com/Businesses/RegionalAircraft/index.htm.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

The FAA issued a notice of proposed rulemaking (NPRM) to amend 14 CFR part 39 to include an AD that supersedes AD 2005-19-15, amendment 39-14280 (70 FR 55230, September 21, 2005). The existing AD applies to all BAE Systems (Operations) Limited (Jetstream) Model 4101 airplanes. That NPRM was published in the Federal Register on November 17, 2008 (73 FR 67817). That NPRM proposed to continue to require operators to determine the number of flight cycles accumulated on each component of the main landing gear and the nose landing gear, and to replace each component that reaches its life limit with a serviceable component. That NPRM also proposed to continue to require operators to revise the Airworthiness Limitations (AWL) section of the Instructions for Continued Airworthiness (ICA) in the aircraft maintenance manual to reflect the new life limits for structurally significant items. That NPRM also proposed to require a new revision of the AWL section of the ICA to incorporate revised life limits for structurally significant items, operational and functional tests of certain systems, and instructions to retain critical ignition source prevention features during configuration changes.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD.

Estimated Costs
Action | Work hour | Average labor rate per hour | Cost per airplane | Number of U.S.-registered airplanes | Fleet cost
AWL revision (required by AD 2005-19-15) | 1 | $80 | $80 | 3 | $240
AWL revision (new action) | 1 | 80 | 80 | 3 | 240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14280 (70 FR 55230, September 21, 2005) and by adding the following new airworthiness directive (AD):

2009-10-02 BAE Systems (Operations) Limited (Formerly British Aerospace Regional Aircraft): Amendment 39-15897. Docket No. FAA-2008-1214; Directorate Identifier 2007-NM-259-AD.

Effective Date

(a) This AD becomes effective June 11, 2009.

Affected ADs

(b) This AD supersedes AD 2005-19-15.

Applicability

(c) This AD applies to all BAE Systems (Operations) Limited Model Jetstream 4101 airplanes, certificated in any category.

Unsafe Condition

(d) This AD results from mandatory continuing airworthiness information (MCAI) originated by an aviation authority of another country. We are issuing this AD to prevent failure of certain structurally significant items, including the main landing gear and the nose landing gear, which could result in reduced structural integrity of the airplane; and to prevent fuel vapor ignition sources, which could result in fuel tank explosion and consequent loss of the airplane.

Compliance

(e) You are responsible for having the actions required by this AD performed within the compliance times specified, unless the actions have already been done.

Certain Requirement of AD 2005-19-15: Revise Aircraft Maintenance Manual (AMM)

(f) Within 30 days after October 26, 2005 (the effective date of AD 2005-19-15): Revise the Airworthiness Limitations (AWL) section of the Instructions for Continued Airworthiness of the BAE Systems (Operations) Limited J41 AMM to include the life limits of the components listed in Chapter 05-10-10, Airworthiness Limitations—Description and Operation Section, Revision 23, dated February 15, 2005, of the AMM. This may be accomplished by inserting a copy into the AWL section of the Instructions for Continued Airworthiness. Thereafter, except as provided in paragraph (i) of this AD, no alternative replacement times may be approved for any affected component.

New Requirements of This AD: Revise AWL Section of Instructions for Continued Airworthiness

(g) Within 90 days after the effective date of this AD: Revise the AWL section of the Instructions for Continued Airworthiness by incorporating the instructions of Subjects 05-10-10, “Airworthiness Limitations,” 05-10-20, “Certification Maintenance Requirements,” and 05-10-30, “Critical Design Configuration Control Limitations (CDCCL)—Fuel System” of the BAE Systems (Operations) Limited Jetstream Series 4100 AMM, Revision 31, dated February 15, 2009. Thereafter, except as provided in paragraph (i) of this AD, no alternative replacement times or inspection intervals may be approved for any affected component. The revised Chapter 05-10-10 replaces the corresponding chapter specified in paragraph (f) of this AD.

(h) Where paragraph 2.A.(2) of Subject 05-10-10 of the BAE Systems (Operations) Limited Jetstream Series 4100 AMM, Revision 31, dated February 15, 2009, specifies that certain landing gear units “must be removed before 31st March 2008,” this AD requires compliance within 60 days after the effective date of this AD.

Alternative Methods of Compliance (AMOCs)

(i) The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

Related Information

(j) European Aviation Safety Agency airworthiness directive 2008-0094, dated May 16, 2008, also addresses the subject of this AD.

Material Incorporated by Reference

(k) You must use the service information contained in Table 1 of this AD to do the actions required by this AD, unless the AD specifies otherwise.

Table 1—All Material Incorporated by Reference
Document | Revision | Date
BAE Systems (Operations) Limited J41 (AMM) | 23 | February 15, 2005.
Subject 05-10-10 of the BAE Systems (Operations) Limited Jetstream Series 4100 AMM | 31 | February 15, 2009.
Subject 05-10-20 of the BAE Systems (Operations) Limited Jetstream Series 4100 AMM | 31 | February 15, 2009.
Subject 05-10-30 of the BAE Systems (Operations) Limited Jetstream Series 4100 AMM | 31 | February 15, 2009.

Chapter 05 of the BAE Systems (Operations) Limited Jetstream Series 4100 AMM contains the following effective pages:

Table 2—Effective Pages of Chapter 05
[List of effective pages]
Page title/description | Page number(s) | Revision number | Date shown on page(s)
AMM Title Page | None shown | Not shown on page* | February 15, 2009
AMM Publications Transmittal
| 1 | 31 | February 15, 2009.
| 2-3 | Not shown on page* | February 15, 2009.
Chapter 05 Airworthiness Limitations List of Effective Pages | 1-2 | Not shown on page* | February 15, 2009.
Subject 05-10-10: Airworthiness Limitations
| 1-4 | Not shown on page* | September 15, 2004.
| 5 | Not shown on page* | February 15, 2006.
| 6-10 | Not shown on page* | February 15, 2005.
| 12, 16, 18-40, 45 | Not shown on page* | February 15, 2009.
| 11, 13-15, 17, 41-44, 46, 47 | Not shown on page* | February 15, 2007.
Subject 05-10-20: Certification Maintenance Requirements
| 1, 5 | Not shown on page* | December 1, 1997.
| 2-3 | Not shown on page* | September 15, 2004.
| 4 | Not shown on page* | October 15, 1999.
Subject 05-10-30: Critical Design Configuration Control Limitations (CDCCL)—Fuel System
| 1-2 | Not shown on page* | February 15, 2008.
*Page 1 of the Publications Transmittal of the BAE Systems (Operations) Limited Jetstream Series 4100 AMM is the only page that shows the revision level of this document.

(1) The Director of the Federal Register approved the incorporation by reference of Subject 05-10-10, Subject 05-10-20, and Subject 05-10-30 of the BAE Systems (Operations) Limited Jetstream Series 4100 AMM, Revision 31, dated February 15, 2009, under 5 U.S.C. 552(a) and 1 CFR part 51.

(2) The Director of the Federal Register previously approved the incorporation by reference of the BAE Systems (Operations) Limited J41 AMM, Revision 23, dated February 15, 2005, on October 26, 2005 (70 FR 55230, September 21, 2005).

(3) For service information identified in this AD, contact BAE Systems Regional Aircraft, 13850 McLearen Road, Herndon, Virginia 20171; telephone 703-736-1080; e-mail raebusiness@baesystems.com; Internet http://www.baesystems.com/Businesses/RegionalAircraft/index.htm.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on April 27, 2009.
Stephen P. Boyd,
Acting Manager, Transport Airplane Directorate, Aircraft Certification Service.

[FR Doc. E9-10425 Filed 5-6-09; 8:45 am]

BILLING CODE 4910-13-P